DEPARTMENT OF AGRICULTURE

Agricultural Marketing Service

[Doc. No. AMS-LPS-16-0035]

Notice of Request for Extension of a Currently Approved Information Collection for the National Sheep Industry Improvement Center

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for an extension of a currently approved information collection 0581-0263: National Sheep Industry Improvement Center (NSIIC).

DATES: Comments must be received by August 1, 2016.

Additional Information or Comments: Interested persons are invited to submit comments concerning this information collection document. Comments should be submitted online at www.regulations.gov. Comments received will be posted without change, including any personal information provided. All comments should reference docket number AMS-LPS-16-0035 and note the date of submission and the page number of this issue in the Federal Register. Comments may also be sent to Kenneth R. Payne, Director, Research and Promotion Division, Livestock, Poultry, and Seed Program, AMS, USDA, 1400 Independence Ave. SW., Room 2610-S, STOP 0249, Washington, DC 20250-0249; or by telephone (202) 720-5705 or fax: (202) 720-1125. Comments will be made available for public inspection at the above address during regular business hours or via the Web site at www.regulations.gov.

FOR FURTHER INFORMATION CONTACT: Kenneth R. Payne, Research and Promotion Division, Livestock, Poultry, and Seed Program, AMS, USDA; 1400 Independence Ave. SW., Room 2610-S, STOP 0249, Washington, DC 20250-0249; or by telephone to (202) 720-5705 or fax to (202) 720-1125.

SUPPLEMENTARY INFORMATION: Title: National Sheep Industry Improvement Center.

OMB Number: 0581-0263.

Expiration Date of Approval: September 30, 2016.

Type of Request: Extension of a currently approved information collection.

Abstract: The information collection requirements in this request are essential to carry out the intent of the NSIIC. The NSIIC was initially authorized under the Consolidated Farm and Rural Development Act (Act), whose primary objective was to assist the U.S. sheep industry by strengthening and enhancing the production and marketing of sheep and their products in the United States. The information collection requirements in the request are essential to carry out the intent of the enabling legislation. The Act, as amended, was passed as part of the 1996 Farm Bill (Pub. L. 104-127, 110 Stat. 888). The initial legislation included a provision that privatized the NSIIC 10 years after its ratification or once the full appropriation of $50 million was disbursed. Subsequently, the NSIIC was privatized on September 30, 2006, and the NSIIC's office was closed in early 2007.

In 2008, the NSIIC was re-established under Title XI of the Food, Conservation, and Energy Act of 2008 (Pub. L. 110-246), also known as the 2008 Farm Bill. The 2008 Farm Bill repealed the requirement in section 375(e)(6) of the Act to privatize the NSIIC. Additionally, the 2008 Farm Bill provided for $1 million in mandatory funding for fiscal year 2008 from the Commodity Credit Corporation for the NSIIC to remain available until expended. NSIIC has expended the $1 million authorized under the 2008 Farm Bill.

On October 7, 2014, as provided under the Agricultural Act of 2014 (Pub. L. 113-79), also known as the 2014 Farm Bill, NSIIC was awarded $1.475 million under the Sheep Production and Marketing Grant Program.

Currently, NSIIC awards funds annually to organizations designed to strengthen and enhance the production and marketing of sheep and sheep products in the United States including the improvement of infrastructure business, resource development, and the development of innovative approaches to solve long-term needs.

AMS accepts nominations for membership on the NSIIC Board of Directors (Board) from national organizations that (1) consist primarily of active sheep or goat producers in the United States, and (2) have the primary interest of sheep or goat production in the United States.

The forms used in this collection are: Nominations for Appointments; AD-755 Background Information Form (OMB No. 0505-0001); and Nominee's Agreement to Serve.

Estimate of Burden: Public reporting burden for this collection of information is estimated to average 0.21 hour per response.

Respondents: National organizations submitting nominations to the Board who (1) consist primarily of active sheep or goat producers in the United States, and (2) have the primary interest of sheep or goat production in the United States.

Estimated Number of Respondents: 10.

Estimated Number of Responses per Respondent: 1 per year per form.

Estimated Total Annual Responses: 30.

Estimated Total Annual Burden: 6.25 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: May 27, 2016.
Elanor Starmer,
Administrator, Agricultural Marketing Service.

[FR Doc. 2016-13019 Filed 6-1-16; 8:45 am]

BILLING CODE 3410-02-P